FEDERAL COMMUNICATIONS COMMISSION

47 CFR Part 73

[DA 06-18; MB Docket No. 03-257; RM-10814]

Radio Broadcasting Services; Hartford and South Haven, MI

AGENCY: Federal Communications Commission.

ACTION: Final rule.

SUMMARY: This document grants a petition filed by WSJM, Inc., licensee of Station WZBL(FM), Channel 279A, Hartford, Michigan and Station WCSY-FM, Channel 252A, South Haven, Michigan, requesting the reallotment of pre-1989 grandfathered Station WCSY-FM, Channel 252A from South Haven to Hartford, Michigan, relocation of transmitter site and modification of the Station WCSY-FM license accordingly. See 69 FR 612, published January 6, 2004. To accommodate the Station WCSY-FM reallotment, this document reallots Station WZBL(FM), Channel 279A from Hartford to South Haven, Michigan and modifies the Station WZBL(FM) license accordingly. Channel 252A can be reallotted to Hartford, Michigan in conformity with the Commission's rules, provided there is a site restriction of 12.5 kilometers (7.8 miles) northwest of Hartford at coordinates 42-14-49 NL and 86-20-06 WL. Channel 279A can be reallotted to South Haven, Michigan using the Station WZBL(FM) authorized site, 42-18-02 NL and 86-15-03 WL. The transmitter site is located 11.2 kilometers (6.9 miles) south of South Haven, Michigan.

DATES: Effective February 21, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 03-257, adopted January 4, 2006, and released January 6, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Michigan, is amended by removing Channel 279A and adding Channel 252A at Hartford and by removing Channel 252A and adding Channel 279A at South Haven.

Federal Communications Commission.
John A. Karousos,
Assistant Chief, Audio Division, Media Bureau.

[FR Doc. 06-793 Filed 1-26-06; 8:45 am]

BILLING CODE 6712-01-P